SMALL BUSINESS ADMINISTRATION

[Declaration of Disaster #3480]

State of Tennessee

Knox, Rhea and Sequatchie Counties and the contiguous counties of Anderson, Bledsoe, Blount, Cumberland, Grainger, Grundy, Hamilton, Jefferson, Loudon, Marion, Meigs, Roane, Sevier, Union, Van Buren and Warren in the State of Tennessee constitute a disaster area due to damages caused by heavy rains and flooding that began on February 14, 2003, and continued through February 16, 2003. Applications for loans for physical damage as a result of this disaster may be filed until the close of business on May 5, 2003 and for economic injury until the close of business on December 8, 2003 at the address listed below or other locally announced locations:

U.S. Small Business Administration, Disaster Area 2 Office, One Baltimore Place, Suite 300, Atlanta, GA 30308.

The interest rates are:

| Percent
For Physical Damage:
Homeowners with credit available elsewhere | 5.875
Homeowners without credit available elsewhere | 2.937
Businesses with credit available elsewhere | 6.378
Businesses and non-profit organizations without credit available elsewhere | 3.189
Others (Including non-profit organizations) with credit available elsewhere | 5.500
For Economic Injury:
Businesses and small agricultural cooperatives without credit available elsewhere | 3.189

The number assigned to this disaster for physical damage is 348006 and for economic damage is 9U4200.

(Catalog of Federal Domestic Assistance Program Nos. 59002 and 59008.)
Dated: March 6, 2003.
Hector V. Barreto,
Administrator.

[FR Doc. 03-6121 Filed 3-13-03; 8:45 am]

BILLING CODE 8025-01-P